DEPARTMENT OF TRANSPORTATION

National Highway Traffic Safety Administration

[Docket No. NHTSA-2023-0024]

Agency Information Collection Activities; Notice and Request for Comment; First Responder Incident Advanced Reporting Program

AGENCY: National Highway Traffic Safety Administration (NHTSA), Department of Transportation (DOT).

ACTION: Notice and request for comments on a new information collection.

SUMMARY: NHTSA invites public comments about our intention to request approval from the Office of Management and Budget (OMB) for a new information collection. Before a federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on the First Responder Incident Advanced Reporting Program (FRIAR) in which first responders (e.g., law enforcement, fire department, and emergency medical services) may submit information about fatalities, injuries, or crashes that may have been caused due to a motor vehicle or equipment defect.

DATES: Comments must be submitted on or before August 11, 2023.

ADDRESSES: You may submit comments identified by the Docket No. NHTSA-2023-0024 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Tanya Topka, Office of Defects Investigation (NEF-100), (202) 366-9590, National Highway Traffic Safety Administration, W48-336, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: First Responder Incident Advanced Reporting (FRIAR) Information Collection.

OMB Control Number: New.

Form Number(s): N/A.

Type of Request: Approval of a new collection of information.

Type of Review Requested: Regular.

Requested Expiration Date of Approval: 3 years from date of approval.

Summary of the Collection of Information: The purpose of this collection is to provide first responders with a distinct mechanism to report to NHTSA's Office of Defects Investigation (ODI) regarding fatalities, injuries, or crashes that may have been caused due to an alleged defect. Currently, ODI collects Vehicle Owner Questionnaires (VOQ) to gather information from the public about alleged or suspected safety defects. The FRIAR collection is a separate method to collect safety and defect related information from the first responder community that will expedite and prioritize ODI's review of such reports.

The FRIAR program will differ from the agency VOQ review process because first responders, based on their experience, may identify an incident(s) or crash that involves a potential safety-related problem that warrants swift review by ODI. An ODI safety defect analyst or investigator will follow-up with the first responder within 24 business hours (or 3 business days) upon receipt of a report. Reports submitted to ODI, in combination with other information obtained by ODI, are analyzed to determine if a potential defect exists that may require further investigation or the initiation of a recall. FRIAR was designed and created in the wake and review of the General Motors (GM) ignition switch recall and the 2015 Workforce Assessment document,¹ and the program will provide first responders a direct reporting mechanism to NHTSA for alleged safety defects that they may see in the field.

¹ Workforce Assessment: The Future of NHTSA's Defect Investigations, https://www.nhtsa.gov/staticfiles/communications/pdf/workforce-assessment-june2015.pdf, last accessed July 13, 2022.

A first responder may submit a report(s) through NHTSA's Vehicle Safety Hotline, or NHTSA's www.nhtsa.gov website, which will have a section specified for first responders. The reports may contain an allegation of a safety defect that the first responder encountered that may be related to a vehicle, equipment, tire(s), child restraints, injuries, a crash, property damage, or fatality. This information collection is not expected to be burdensome to first responders since submitting the FRIAR form is voluntary and will require less than 5 minutes to complete.

Description of the Need for the Information and Proposed Use of the Information: First responders have not had a direct or public method of reporting alleged safety defects to ODI, and the FRIAR program will address this reporting disparity.

Affected Public: State and Local First Responders (e.g., law enforcement, fire department, and emergency medical services).

Estimated Number of Respondents: approximately 100 respondents a year.

Respondents include a combination of State or local agencies that respond to car crashes, investigate crashes, and complete crash reports. NHTSA estimates that FRIAR will receive approximately 100 reports each year. Currently, even without a mechanism or prompt for collecting this information, NHTSA receives unsolicited tips and information from first responders regarding suspected vehicle defects (approximately 1 report a month) via telephone or email correspondence with NHTSA staff that work with first responders in other official capacities and duties. We anticipate that FRIAR will collect about 10 reports a month. NHTSA will conduct outreach to first responder communities to raise awareness about the FRIAR program that may increase the number of reports received over time. Therefore, it is estimated that the FRIAR project will generate, on average, 100 reports a year in the first year and the number of reports will increase over time.

Frequency: Ongoing.

The data will be collected on an ongoing basis (e.g., whenever a first responder decides to voluntarily submit information about a crash, fatality, or injury occurs that they suspect could be related to a safety-related motor vehicle or equipment defect, which is expected to be infrequent) and is voluntary. It is anticipated that each response will be unique and will not be from the same agency, station, jurisdiction, etc., and there is no limit to how many reports a single agency or entity can submit to the FRIAR program during a given year.

Estimated Total Annual Burden Hours: 25 hours.

NHTSA estimates that the total burden hours for this information collection will be 25 hours per year. This is based on NHTSA's estimates that there will be 100 FRIAR reports submitted each year and that each report will take first responders approximately 15 minutes to complete (completion of the form will take 5 minutes and the follow-up phone call will take 10 minutes).

NHTSA estimates the cost associated with the burden hours by looking at average wages for different categories of first responders. The Bureau of Labor Statistics (BLS) estimates that the mean hourly wage is $34.02 an hour for police and sheriff's patrol officers (BLS Code 33-3051),² $26.58 an hour for firefighters (BLS Code 33-2011),³ $17.64 per hour for emergency medical technicians (EMT) (BLS Code 29-2042).⁴ First responders may have to utilize overtime to submit reports to FRIAR, and the standard overtime calculation is: 1 hour overtime = 1.5 × hourly rate (e.g., time + 1 half). Therefore, NHTSA estimates the hourly labor costs for FRIAR respondents for 15 minutes using the overtime rate to be: $12.76 for police and sheriff's patrol officers, $9.97 for firefighters, and $6.62 for emergency medical technicians (EMT). NHTSA estimates that between all categories of respondents, we will receive approximately 100 reports each year with each report taking 15 minutes to complete. NHTSA estimates that the total of 25 burden hours will be distributed equally among the respondent categories and the average total labor costs associated with these burden hours will be $244.58 a year ([sum of all three 15 min average overtime rates hourly wage rates/3] × 25 hours).

² Occupational Employment and Wages, May 2021, 33-5051Police and Sheriff's Patrol Officers, https://www.bls.gov/oes/current/oes333051.htm, last accessed June 28, 2022.

³ Occupational Employment and Wages, May 2021, 33-2011 Firefighters, https://www.bls.gov/oes/current/oes332011.htm, last accessed June 28, 2022.

⁴ Occupational Employment and Wages, May 2021, Emergency Medical Technicians, https://www.bls.gov/oes/current/oes292042.htm, last accessed June 28, 2022.

Estimated Total Annual Burden Cost: This collection is not expected to result in any costs to respondents other than the cost associated with the burden hours.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Jeffrey Lee Quandt,
Deputy Director, Office of Defect Investigation.

[FR Doc. 2023-12420 Filed 6-9-23; 8:45 am]

BILLING CODE 4910-59-P